DEPARTMENT OF JUSTICE

Notice of Lodging of Proposed Consent Decree Under the Comprehensive Environmental Response, Compensation, and Liability Act

On January 31, 2014, the Department of Justice lodged a proposed a Consent Decree with the United States District Court for the Southern District of Ohio in the lawsuit entitled United States v. 3M Company, et al., Civil Action No. 3:14-cv-00032-WHR.

The United States filed this lawsuit under the Comprehensive Environmental Response, Compensation and Liability Act (CERCLA). The United States' complaint requests recovery of costs that the United States incurred responding to releases of hazardous substances at the Lammers Barrel Superfund Site (the “Site”) in BeaverCreek, Ohio. The complaint also seeks injunctive relief, specifically, performance of the remedial action for Operable Unit 1 at the Site selected by the United States Environmental Protection Agency (“EPA”). Under the terms of the Consent Decree, the Defendants have agreed to (1) perform the remedial action selected by EPA for Operable Unit 1, at an estimate cost of $3.4 million; (2) implement institutional controls; (3) reimburse the United States $1,496,689.04 for past response costs; (4) reimburse the United States for future response costs.

The publication of this notice opens a period for public comment on the proposed Consent Decree. Comments should be addressed to the Assistant Attorney General, Environment and Natural Resources Division, and should refer to United States v. 3M Company et al., D.J. Ref. No. 90-11-3-07706. All comments must be submitted no later than thirty (30) days after the publication date of this notice. Comments may be submitted either by email or by mail:

To submit comments: | Send them to:
By e-mail | pubcomment-ees.enrd@usdoj.gov.
By mail | Assistant Attorney General U.S. DOJ—ENRD P.O. Box 7611 Washington, D.C. 20044-7611.

During the public comment period, the proposed Consent Decree may be examined and downloaded at this Justice Department Web site: http://www.usdoj.gov/enrd/Consent_Decrees.html. We will provide a paper copy of the proposed Consent Decree upon written request and payment of reproduction costs. Please mail your request and payment to:

Consent Decree Library, U.S. DOJ—ENRD, P.O. Box 7611, Washington, DC 20044-7611.

Please enclose a check or money order for $89.75 (25 cents per page reproduction cost) payable to the United States Treasury. For a paper copy without the signature pages and Appendices, the cost is $24.25.

Maureen Katz,
Assistant Section Chief, Environmental Enforcement Section, Environment and Natural Resources Division.

[FR Doc. 2014-02831 Filed 2-7-14; 8:45 am]

BILLING CODE 4410-15-P